DEPARTMENT OF TRANSPORTATION

Federal Aviation Administration

[Docket No. FAA-2019-0631]

Agency Information Collection Activities: Requests for Comments; Clearance of a New Approval of Information Collection: Service Availability Prediction Tool (SAPT)

AGENCY: Federal Aviation Administration (FAA), DOT.

ACTION: Notice and request for comments.

SUMMARY: In accordance with the Paperwork Reduction Act of 1995, FAA invites public comments about their intention to request Office of Management and Budget (OMB) approval of a new web-based tool to assist aircraft operators in achieving regulatory compliance. Depending on the specific nature of the operator's route of flight, varying levels of information are necessary for the FAA to process pre-flight availability predictions for navigation and surveillance, and, if needed, an ATC authorization request via this web-based tool. This collection involves planned routes of flight, aircraft avionics equipment, and may require identifying information about the requester. The information collected will be used to predict whether an aircraft flying the proposed route of flight will have sufficient position accuracy and integrity for:

(1) Navigation, via the Receiver Autonomous Integrity Monitoring (RAIM) SAPT

(2) Surveillance, via the Automatic Dependent Surveillance-Broadcast (ADS-B) SAPT

In addition, the website will allow operators to request authorization from ATC to operate aircraft that do not fully meet ADS-B Out requirements in rule airspace (per 14 CFR 91.225 and 91.227), which requires ADS-B Out via:

(3) ADS-B Deviation Authorization Preflight Tool (ADAPT)

DATES: Written comments should be submitted by October 21, 2019.

ADDRESSES: Please send written comments:

By Electronic Docket: www.regulations.gov (Enter docket number into search field).

By mail: Send comments to FAA at following address: Mr. David Gray, Manager, Surveillance and Broadcast Services, AJM-42, Air Traffic Organization, Federal Aviation Administration, 600 Independence Ave. SW, Wilbur Wright Building, Washington, DC 20597.

By fax: 202-267-1277 (Attention: Mr. David Gray, Manager, Surveillance and Broadcast Services, AJM-42, Air Traffic Organization, Federal Aviation Administration).

FOR FURTHER INFORMATION CONTACT: For technical questions concerning this action, contact Mr. Paul Von Hoene, Aviation Safety, Aviation Safety Inspector (AC/OPS) at paul.vonhoene@faa.gov or 202-267-8916.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Service Availability Prediction Tool (SAPT).

Form Numbers: None—Operators will access website at https://sapt.faa.gov.

Type of Review: New information collection.

Background: Under 14 CFR 91.103, pilots and operators must use all available information in planning their flight to ensure that they will meet the performance requirements for the duration of the flight. Operators may use the FAA-provided pre-flight Service Availability Prediction Tool (SAPT) for determining predicted navigation or surveillance availability before a flight. The SAPT has three main components: Receiver Autonomous Integrity Monitoring (RAIM) SAPT, Automatic Dependent Surveillance-Broadcast (ADS-B) SAPT, and ADS-B Deviation Authorization Pre-Flight Tool (ADAPT).

The RAIM SAPT is voluntary and is intended mainly for pilots, dispatchers, and commercial service providers using Technical Standard Order (TSO)-C129 equipment to check predicted navigation horizontal protection level (HPL) for a proposed route of flight. RAIM SAPT incorporates TSO-C129 Global Positioning System (GPS) RAIM predictions to check the availability of GPS RAIM for satisfying the area navigation (RNAV) requirements of AC 90-100A Change 2, Paragraph 10(5). RAIM SAPT users can view RAIM outage predictions on RAIM Summary Displays to graphically view RAIM outage predictions for specific equipment configurations. Additionally, RAIM SAPT users can also use an XML-based web service, most commonly used by flight planning software, to enter specific route of flight information by the operator checking RAIM outage predictions.

The ADS-B SAPT is provided to help operators comply with 14 CFR 91.225 and 91.227 by predicting whether operators will meet regulatory requirements and to advise holders of FAA Exemption No. 12555 whether back-up surveillance will be available where installed aircraft avionics are not predicted to meet the requirements of 14 CFR 91.227(c)(1)(i) and (iii). For operators of aircraft equipped with TSO-C129 (SA-On) GPS receivers, the operator may run a preflight prediction using ADS-B SAPT as one option to meet their requirements. Information collected via ADS-B SAPT is comparable to that already provided in flight plans, with the addition of some information about the aircraft position source's TSO and related capabilities. Operators using an ADS-B SAPT flight plan form must enter aircraft identification. The ADS-B SAPT flight plan form does not collect other personally identifiable information details about the operator.

When an operator performs a preflight availability prediction using the FAA's SAPT, the SAPT retains a record of each transaction enabling the FAA to confirm that an operator took preflight action. The FAA recommends that operators using an alternate tool retain documentation that verifies the completion of the satisfactory preflight availability prediction for each intended route of flight. 84 FR 31713 (July 3, 2019).

ADAPT is mandatory for operators desiring to fly in ADS-B Out rule airspace without meeting the ADS-B equipage requirements. ADAPT allows operators to create an air traffic authorization request to operate in ADS-B Out rule airspace per 14 CFR 91.225(g). As precursor to using ADAPT, operators must first complete the ADS-B SAPT Flight Plan Form to determine if there is sufficient backup surveillance coverage throughout their planned flight. Operators must enter their personal contact information to enable an FAA ATC Authorization Authority (AAA) to reply with either an approval, rejection, or pending decision. ADAPT does collect personal identifying information to include name, telephone number, and email address.

Respondents: These prediction tools are primarily intended for pilots and dispatchers; anyone who is planning a flight which passes through U.S. sovereign airspace using an aircraft whose GPS receiver(s) is/are not guaranteed to meet certain performance requirements or whose aircraft is not equipped to meet requirements of 14 CFR 91.225.

Frequency: On occasion as part of flight planning, as required by FAA policy.

Estimated Average Burden per Response:

RAIM SAPT—3 minutes or less.

ADS-B SAPT—5 minutes or less.

(It is anticipated that RAIM SAPT and ADS-B SAPT will be automated into eXtensible Markup Language (XML) that operators may use to plan flights, eliminating manual data-entry).

ADAPT—7 minutes or less (includes up to 2 minutes for FAA email response).

Estimated Total Annual Burden:

RAIM SAPT—Approximately 673,425 minutes.

ADS-B SAPT—Approximately 11,062,128 minutes.

ADAPT—Approximately 15,330,000 minutes.

Issued in Washington, DC, on August 15, 2019.
David E. Gray,
Group Manager, Surveillance and Broadcast Services (AJM-42), Program Management Office, Air Traffic Organization, Federal Aviation Administration.

[FR Doc. 2019-18120 Filed 8-21-19; 8:45 am]

BILLING CODE 4910-13-P